DEPARTMENT OF THE INTERIOR

Bureau of Ocean Energy Management

[Docket No. BOEM-2023-0061]

Notice of Availability of the California Offshore Wind Draft Programmatic Environmental Impact Statement

AGENCY: Bureau of Ocean Energy Management, Interior.

ACTION: Notice of availability.

SUMMARY: The Bureau of Ocean Energy Management (BOEM) announces the availability of the draft programmatic environmental impact statement (PEIS) for California Offshore Wind. The Proposed Action of the draft PEIS is the identification of programmatic mitigation measures to lessen the environmental impacts of commercial-scale offshore wind energy development in the five lease areas offshore Northern and Central California on the Outer Continental Shelf (OCS). These mitigation measures may be required as conditions of approval for activities proposed within future construction and operations plans (COPs) prepared by leaseholders for approval to begin construction within the lease areas. This PEIS, if finalized and approved, will not result in the approval of any construction and operation activities.

ADDRESSES: The draft PEIS and associated information are available on BOEM's website at: https://www.boem.gov/renewable-energy/state-activities/california-offshore-wind-programmatic-environmental-impact.

FOR FURTHER INFORMATION CONTACT: Lisa Gilbane, Chief, Environmental Analysis Section, Bureau of Ocean Energy Management, Camarillo, California Office, 760 Paseo Camarillo, Suite 102, Camarillo, CA 93010, (805) 384-6387 or lisa.gilbane@boem.gov.

Submission of Public Comments: The 90-day comment period begins on February 12, 2025. Public comments can be submitted in two ways: (1) Through the regulations.gov web portal: Navigate to https://www.regulations.gov and search for Docket No. BOEM-2023-0061. Select the document in the search results on which you want to comment, click on the “Comment” button, and follow the online instructions for submitting your comment. A commenter's checklist is available on the comment web page. Enter your information and comment, then click “Submit.” (2) By mail or delivery service: Send comments in an envelope labeled, “CALIFORNIA OSW PEIS” and addressed to Lisa Gilbane, Environmental Assessment Section, Office of Environment, Bureau of Ocean Energy Management, 760 Paseo Camarillo, Suite 102, Camarillo, California 93010.

BOEM's virtual public meetings will be held on the following date at the time (Pacific time) indicated.

Tuesday January 28, 2025, 5:00 p.m.

Thursday, January 30, 2025, 12:00 p.m.

Please go to https://www.boem.gov/caoffshorewindpeis for registration links, dates, times and for additional information and updates. Meetings are open to the public and free to attend.

SUPPLEMENTARY INFORMATION: This draft PEIS assesses potential biological, socioeconomic, physical, and cultural impacts that could result from floating offshore wind energy development associated with the two leases offshore Humboldt Bay (OCS-P 0561 and 0562) and three leases offshore Morro Bay (OCS-P 0563, 0564, and 0565) and considers the reduction or avoidance of those impacts that could result from adopting mitigation measures. BOEM issued these five leases May 16, 2023. The leases total approximately 373,000 acres (~583 square miles) and are the first wind energy leases offshore California. Water depths in the lease areas range from 1,640 to 4,265 feet (500 to 1,300 meters); the use of floating foundations that anchor to the sea floor is anticipated.

The existing wind leases grant the lessees the exclusive right to submit a COP to BOEM proposing the construction, operation, and decommissioning of offshore wind energy facilities in the lease area. BOEM will conduct site-specific National Environmental Policy Act (NEPA) analyses on all COPs submitted and may conclude that the inclusion of additional mitigation measures not identified in this draft PEIS is required.

The Proposed Action is BOEM's adoption of a suite of program-level mitigation measures that could be applied to activities to reduce or avoid potential impacts.

Alternatives: In addition to the Proposed Action, BOEM considered two alternatives: A No Action Alternative, and an alternative that does not include the addition of mitigation measures in order to assess the effectiveness of mitigation in avoiding or reducing impacts.

Availability of the Draft PEIS: The draft PEIS and associated information are available on BOEM's website at: https://www.boem.gov/renewable-energy/state-activities/california-offshore-wind-programmatic-environmental-impact.

Authority: 42 U.S.C. 4231 et seq. (National Environmental Policy Act, as amended), NEPA implementing regulations (40 CFR 1500-1508), and U.S. Department of the Interior (DOI) NEPA regulations (43 CFR part 46).

Douglas P. Boren,
Pacific Regional Director, Bureau of Ocean Energy Management.

[FR Doc. 2024-26424 Filed 11-13-24; 8:45 am]

BILLING CODE 4340-98-P